DEPARTMENT OF TRANSPORTATION

National Highway Traffic Safety Administration

[Docket No. NHTSA-2015-0121]

Developing Evidence Based Fatigue Risk Management Guidelines for Emergency Medical Services

AGENCY: National Highway Traffic Safety Administration (NHTSA), U.S. Department of Transportation (DOT).

ACTION: Notice.

SUMMARY: The National Highway Traffic Safety Administration (NHTSA) is announcing a meeting that will be held in Washington, DC on February 2nd, 2016 to announce a new initiative and accept comments from the public about the development of voluntary evidence-based guidelines (EBGs) for fatigue risk management tailored to the Emergency Medical Services (EMS) occupation. The meeting will include presentations by NHTSA and the project team. These presentations will address the following: (1) A brief overview of the potential dangers of drowsy and fatigued driving and the work of EMS practitioners, including the risk of traffic crashes and providing patient care; (2) a summary of the project goals and methods for coming to consensus on EBG fatigue risk management guidelines, (3) the plan for dissemination of EBGs, and (4) additional project related activities and information. Due to space limitations, attendance at the meeting is limited to invited participants and those who register in advance. Time for comment and questions from attendees will be included. Written comments can also be made on http://www.regulations.gov.

DATES: The meeting will be held on February 2nd, 2016 from 8:00 a.m. to 12:00 p.m.

ADDRESSES: The meeting will be held in the Conference Center of the U.S. Department of Transportation, 1200 New Jersey Avenue SE., Washington, DC 20590.

FOR FURTHER INFORMATION CONTACT: Dr. J. Stephen Higgins, Telephone: 202-366-3976; email address: james.higgins@dot.gov.

SUPPLEMENTARY INFORMATION: The National Highway Traffic Safety Administration (NHTSA) is announcing a meeting that will be held in Washington, DC on February 2nd, 2016 to announce a new initiative and accept comments from the public about the development of voluntary evidence-based guidelines (EBGs) for fatigue risk management tailored to the EMS occupation. This initiative (http://www.ems.gov/pdf/nemsac/2013/NEMSAC-AdvisoryFatigueJan2013.pdf) was started at the behest of the National Emergency Medical Services Advisory Committee (NEMSAC), a congressionally authorized Federal Advisory Committee; sponsored by NHTSA; and the work performed by the National Association of State EMS Officials (NASEMSO). The fatigue risk management guidelines for the EMS community will be developed by an interdisciplinary team of sleep and fatigue scientists, Evidence Based Guideline (EBG) development specialists, and experts in emergency medicine and EMS. Final results and dissemination are expected within the next two years. The evidence based fatigue risk management guidelines will be widely disseminated across the EMS community through publications, presentations, and at national stakeholder meetings.

The meeting will be attended by members of the project team, the EBG panel, members of the public, and members of the EMS community. The meeting will begin with short presentations by NHTSA staff and the project team discussing the dangers of drowsy and fatigued driving and work, a summary of the project goals and methods for coming to consensus on the guidelines, the eventual dissemination of the guidelines, and additional project related activities. A majority of the time in the meeting will be set aside to accept questions and comments from the registered attendees after the brief initial presentations. This is to ensure that the voluntary fatigue risk management guidelines will address the needs of the entire and diverse EMS community. Due to space limitations, attendance at the meeting is limited to invited participants and those who register in advance. All attendees must bring government issued identification to gain admittance to the DOT Building. Those who do not register in advance may not be able to attend because of limited space in the DOT Conference Center. To register please contact J. Stephen Higgins by email: james.higgins@dot.gov or by phone: 202-366-3976 (email preferred).

Public Comment: Members of the public are encouraged to comment either in person at the meeting or at http://www.regulations.gov. In order to allow as many people as possible to provide comments at the meeting, speakers are requested to limit their remarks to 5 minutes. You may submit written comments identified by DOT Docket ID Number NHTSA-2015-0121 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

Authority: 49 U.S.C. 30182; 23 U.S.C. 403

Mike Brown,
Acting Associate Administrator, Research and Program Development.

[FR Doc. 2016-00296 Filed 1-8-16; 8:45 am]

BILLING CODE 4910-59-P